DEPARTMENT OF STATE

[Public Notice 5001]

Determination Under Section 620(Q) of the Foreign Assistance Act and Section 512 of the Foreign Operations, Export Financing and Related Programs Appropriations Act, 2005 Relating To Assistance To the Dominican Republic

Pursuant to the authority vested in me by section 620(q) of the Foreign Assistance Act of 1961, as amended (FAA), section 512 of the Foreign Operations, Export Financing, and Related Programs Appropriations Act, 2005 (FOAA) (Div. D, Public Law 108-477), and by Executive Order 12163, as amended by Executive Order 13346, I hereby determine that assistance to the Dominican Republic is in the national interest of the United States and thereby waive with respect to that country, the application of section 620(q) of the FAA from the date it would otherwise have been applicable and section 512 of the FOAA, as well as any provision of law that is the same or substantially the same as such provisions, including subsequently enacted provisions.

This determination shall be reported to Congress and published in the Federal Register.

Dated: December 18, 2005.
Colin L. Powell,
Secretary of State, Department of State.

[FR Doc. 05-3591 Filed 2-23-05; 8:45 am]

BILLING CODE 4710-29-P